FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 14, 2015.

A. Federal Reserve Bank of Dallas (Robert L. Triplett III, Senior Vice President) 2200 North Pearl Street, Dallas, Texas 75201-2272:

1. Child's Disclaimer Trust, Dolph Briscoe IV Trust and James Leigh Briscoe Trust; Janey B. Marmion, Uvalde, Texas, individually and as trustee of the Janey B. Marmion Revocable Trust and the Janey B. Marmion Child's Trust No. 2; Cele B. Carpenter, Dallas, Texas, individually and as trustee of the Cele B. Carpenter Child's Disclaimer Trust and Cele B. Carpenter 2008 Trust; John W. Carpenter, III, Dallas, Texas, trustee of the Benjamin H. Carpenter 2012 Legacy Trust, Austin W. Carpenter 2012 Legacy Trust and Bonner B. Carpenter 2012 Legacy Trust; Dolph Briscoe, IV, Austin, Texas; James Leigh Briscoe, Uvalde, Texas; Benjamin H. Carpenter, II, Dallas, Texas; Austin W. Carpenter, Dallas, Texas; and Bonner B. Carpenter, Dallas, Texas; collectively acting as a group in concert, to retain voting shares of Briscoe Ranch, Inc., Uvalde, Texas, and indirectly acquire voting shares of First State Bank of Uvalde, Uvalde, Texas and Security State Bank, Pearsall, Texas.

Board of Governors of the Federal Reserve System, November 24, 2015.
Michael J. Lewandowski,
Associate Secretary of the Board.

[FR Doc. 2015-30289 Filed 11-27-15; 8:45 am]

BILLING CODE 6210-01-P